DEPARTMENT OF AGRICULTURE

Forest Service

Integrated Treatment of Noxious and Invasive Weeds Within the Coconino, Kaibab, and Prescott National Forests

AGENCY: Forest Service, USDA.

ACTION: Notice of Intent to prepare an environmental impact statement.

SUMMARY: The Forest Service will prepare an environmental impact statement to document the analysis and disclose the effects of implementation of an integrated treatment of noxious and invasive weeds within the Coconino, Kaibab, and Prescott National Forests.

The proposed action would authorize the annual treatments of 2,000 acres per year to a projected high of 10,000 acres per year scattered throughout the three national forests, depending on budget. The majority of treatments will be found along major travel corridors (e.g. railroads, interstates, and state highways as well as Level 3 or 4 roads on the Forests) and within the ponderosa pine vegetation zone in the Verde and Little Colorado watersheds. If approved, project operations will begin in the spring or summer of 2002, and would continue for the next five-to-ten years, barring any significant, environmental changes. Efforts will be made to coordinate annual programs with treatments undertaken by other federal and state agencies and private individuals. To allow flexibility in the treatment of noxious weeds, another component of the proposed action is the inclusion of adaptive management practices, which include the following:

1. Treatment of infestations of noxious weeds that may become established but which are not currently identified on the species list or known to occur on the forests;

2. Utilization of an Integrated Vegetation Management (IVM) approach, which incorporates a variety of methods for prevention, containment, and control of site-specific weed infestations;

3. The use of approved herbicides that may not be exclusively listed in the proposed action;

4. The application of new research on the use of biological control, suitable herbicides, and vegetation competition, and ecosystem information on the vulnerability to invasion, and;

5. If prescribed management fails to result in the desired outcome, alternative strategies will be developed, and management will be adapted until the desired conditions are achieved, which could involve an increase in the estimated annual acreage of treatment.

The various methods that may be analyzed under an IVM approach include: (a) Manual: Hand-grubbing, hand-pulling, and hand-rogueing; (b) mechanical: clipping, mowing, tilling and burning; (c) cultural: grazing by livestock, tilling, fertilization, seeding of competitive plants, and the use of weed seed-free seed mixes and mulches; (d) biological: use of approved insects and pathogens; and (e) herbicidal: spot treatments, backpack, and ground-based broadcast applications. It is expected that a combination of methods would be used for most treatment programs and the following criteria would be applied: (1) Health and human safety, (2) effectiveness, (3) economic efficiency, and (4) environmental acceptability and compatibility. The annual combination of methods to be used is expected to vary depending on specific conditions. There will be no aerial application of chemicals by either fixed wing or rotary aircraft.

Sites range in size from single plants to populations covering several thousand acres. In most cases, the weed infestations do not involve 100 percent of the ground, so actual control efforts for noxious weeds may be confined to a smaller area than that reflected in the total affected areas.

All treatment methods, supported by research and experience, will be evaluated for the various weed species. At the low end of anticipated treatment acres, roughly 1,500 acres would be a combination of mechanical/herbicidal, 300 acres manual/mechanical, and the remaining 200 acres biological. Conversely, at the high end of the anticipated treatment acres the breakdown would be roughly 7,500 acres mechanical/herbicidal, 1,500 acres manual/mechanical, and 1,000 acres biological. Based on the above-referenced range, it is estimated that, over the planning period, approximately one-to-three percent of the Forests would be treated. Repeated treatments would be necessary for most weed species because seeds in the soil can be viable for five or even ten years. Therefore, recurring treatments would be authorized until the desired control objective is reached.

There are at least five species that have been found adjacent to the forests or within the state although not yet on National Forest System lands. Prevention measures will be considered to keep these species from spreading onto the national forests. However, if these species are eventually found on the Forests, an eradication objective will be considered.

The twenty-one herbicides and four carriers (or additives) that have been approved and documented in the Risk Assessment for Herbicide Use for Regions 1, 2, 3, 4, and 10 and on Bonneville Power Administration Sites (1992) will be considered for use. The following herbicides, however, are the primary materials that will be evaluated based on historical usage for noxious weed control programs: chlorsulfuron, clopyralid, 2, 4-D, dicamba, glyhosate, imazapyr, metsulfuron methyl, picloram, sultometuron, sultometuron methyl, and triclopyr. In addition, an analysis of the herbicide, Plateau, for leafy spurge will be made, although a risk assessment for this herbicide is not yet completed.

DATES: The draft environment impact statement is scheduled for publication in November 2001 with the final environmental impact statement with Record of Decision published in March 2002. A project update letter was sent to all interested stakeholders in May 2001.

ADDRESSES: The responsible officials include Eleanor S. Towns, Regional Forester of the Southwestern Region, 333 Broadway SE, Albuquerque, NM 87102 on any decision related to herbicide use in existing or proposed wilderness zones as well as Research Natural Areas, James W. Golden, Forest Supervisor, Coconino National Forest, 2323 E. Greenlaw Lane, Flagstaff, AZ 86004-1810, Corey P. Wong, Acting Forest Supervisor, Kaibab National Forest, 800 South Sixth Street, Williams, AZ 86046, and Michael R. King, Forest Supervisor, Prescott National Forest for treatments outside of Wilderness and Research Natural Areas.

FOR FURTHER INFORMATION CONTACT: Dave Brewer, Interdisciplinary Team Leader at Kaibab National Forest Supervisor's Office, 800 South 6th Street, Williams, AZ 86046-2899 or phone (520) 635-8221 or e-mail to mailroom_r3_kaibab@fs.fed.us. Send written comments to the team leader above. The respective staffs will review specific comments targeted to individual Forests. Additional information will be posted on the Kaibab National Forest web page at www.fs.fed.us/r3/kai.

SUPPLEMENTARY INFORMATION: Each scoping began on August 31, 1998, when a proposed action to control noxious weeds on road corridors through herbicidal means was mailed to concerned citizens, federal and state agencies, as well as environmental organizations identified on the Forests' NEPA mailing lists. Preliminary issues identified by both agency personnel and the analysis of public comments include: (a) Impacts on the health and safety of individuals traveling in zones which have been treated with herbicides, (b) impacts to various management indicator plants and animals as well as threatened, endangered, and sensitive species, (c) the original proposed action, which called for treatments of populations only within major transportation and utility corridors, was too narrow in scope because it did not include known and potential populations outside these zones and new species could not be evaluated or treated, and (d) execution of the proposed action may impact groundwater as well as other municipal supplies, resulting in a decline in water quality.

Based on the preliminary issues, it was apparent that the original proposed action, which focused strictly on right-of-way corridors, was not going to effectively reduce the spread of noxious weeds. In addition, the health and safety issues related to spraying within major travel zones influenced the agency to develop the current proposal and send it out for additional scoping.

The project area is located throughout the Coconino, Kaibab, and Prescott National Forests. The scope of the proposed action is limited to specific control measures on known as well as projected populations within the three national forests.

The comment period on the draft environmental impact statement will be 45 days from the date the Environmental Protection Agency publishes the notice of availability in the Federal Register on or about June 15, 2001.

The Forest Service believes, at this early stage, it is important to give reviewers notice of several court rulings related to public participation in the environmental review process. First, reviewers of draft environmental statements must structure their participation in the environmental review of the proposal so that it is meaningful and alerts an agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council of Environmental Quality Regulations for implementing the procedural provisions of the National Environmental Policy Act at 40 CFR 1503.3 in addressing these points.

The responsible officials will make the decision on the proposal after considering comments and responses, environmental consequences discussed in the final environmental impact statement, and applicable laws, regulations, and policies.

Dated: June 7, 2001.
Keith A. Menasco,
Acting Forest Supervisor, Kaibab National Forest.

[FR Doc. 01-15941 Filed 6-25-01; 8:45 am]

BILLING CODE 3410-11-M